DEPARTMENT OF ENERGY

Federal Energy Regulatory Commission

Combined Notice of Filings #1

Take notice that the Commission received the following electric corporate filings:

Docket Numbers: EC17-157-000.

Applicants: Albany Green Energy, LLC.

Description: Application for Authorization Under Section 203 of the Federal Power Act, Request for Waivers, Request for Confidential Treatment, and Request for Expedited Action of Albany Green Energy, LLC.

Filed Date: 8/11/17.

Accession Number: 20170811-5176.

Comments Due: 5 p.m. ET 9/1/17.

Take notice that the Commission received the following exempt wholesale generator filings:

Docket Numbers: EG17-138-000.

Applicants: Southampton Solar LLC.

Description: Self-Certification of Exempt Wholesale Generator of Southampton Solar LLC.

Filed Date: 8/11/17.

Accession Number: 20170811-5147.

Comments Due: 5 p.m. ET 9/1/17.

Take notice that the Commission received the following electric rate filings:

Docket Numbers: ER16-1960-001.

Applicants: Duke Energy Florida, LLC, Duke Energy Carolinas, LLC.

Description: Compliance filing: PBOP Settlement Errata Filing to be effective 1/1/2014.

Filed Date: 8/11/17.

Accession Number: 20170811-5129.

Comments Due: 5 p.m. ET 9/1/17.

Docket Numbers: ER17-775-002.

Applicants: PJM Interconnection, L.L.C.

Description: Compliance filing: Amendment to Compliance Filing in ER17-775-000 to be effective 2/1/2018.

Filed Date: 8/14/17.

Accession Number: 20170814-5079.

Comments Due: 5 p.m. ET 9/5/17.

Docket Numbers: ER17-2266-001.

Applicants: ITC Midwest LLC.

Description: Tariff Amendment: Amendment to filing for Joint Use Agreement to be effective 10/9/2017.

Filed Date: 8/14/17.

Accession Number: 20170814-5151.

Comments Due: 5 p.m. ET 9/5/17.

Docket Numbers: ER17-2291-000.

Applicants: PJM Interconnection, L.L.C.

Description: § 205(d) Rate Filing: Revisions to OATT and OA re: Pseudo-Tie Agreements to be effective 11/9/2017.

Filed Date: 8/11/17.

Accession Number: 20170811-5157.

Comments Due: 5 p.m. ET 9/1/17.

Docket Numbers: ER17-2292-000.

Applicants: Southampton Solar, LLC.

Description: Baseline eTariff Filing: Baseline—Market-Based Rate Tariff to be effective 10/6/2017.

Filed Date: 8/11/17.

Accession Number: 20170811-5158.

Comments Due: 5 p.m. ET 9/1/17.

Docket Numbers: ER17-2293-000.

Applicants: Midcontinent Independent System Operator, Inc., Otter Tail Power Company.

Description: § 205(d) Rate Filing: 2017-08-14_SA 3029 Minnkota-OTP FCA (L16-02) to be effective 8/8/2017.

Filed Date: 8/14/17.

Accession Number: 20170814-5033.

Comments Due: 5 p.m. ET 9/5/17.

Docket Numbers: ER17-2294-000.

Applicants: Midcontinent Independent System Operator Inc.

Description: § 205(d) Rate Filing: 2017-08-10_SA 3034 East River-NSPM TIA to be effective 11/1/2017.

Filed Date: 8/14/17.

Accession Number: 20170814-5061.

Comments Due: 5 p.m. ET 9/5/17.

Docket Numbers: ER17-2295-000.

Applicants: Summer Solar LLC.

Description: § 205(d) Rate Filing: Shared Facilities Agreement to be effective 8/15/2017.

Filed Date: 8/14/17.

Accession Number: 20170814-5100.

Comments Due: 5 p.m. ET 9/5/17.

Docket Numbers: ER17-2296-000.

Applicants: Antelope Big Sky Ranch LLC.

Description: § 205(d) Rate Filing: Antelope Big Sky Ranch LLC Amended SFA to be effective 8/15/2017.

Filed Date: 8/14/17.

Accession Number: 20170814-5110.

Comments Due: 5 p.m. ET 9/5/17.

Docket Numbers: ER17-2297-000.

Applicants: Antelope DSR 1, LLC.

Description: § 205(d) Rate Filing: Antelope DSR 1, LLC Amended SFA to be effective 8/15/2017.

Filed Date: 8/14/17.

Accession Number: 20170814-5111.

Comments Due: 5 p.m. ET 9/5/17.

Docket Numbers: ER17-2298-000.

Applicants: Antelope DSR 2, LLC.

Description: § 205(d) Rate Filing: Antelope DSR 2, LLC Amended SFA to be effective 8/15/2017.

Filed Date: 8/14/17.

Accession Number: 20170814-5112.

Comments Due: 5 p.m. ET 9/5/17.

Docket Numbers: ER17-2299-000.

Applicants: Antelope DSR 3, LLC.

Description: § 205(d) Rate Filing: Antelope DSR 3, LLC Amended SFA to be effective 8/15/2017.

Filed Date: 8/14/17.

Accession Number: 20170814-5115.

Comments Due: 5 p.m. ET 9/5/17.

Docket Numbers: ER17-2300-000.

Applicants: Bayshore Solar A, LLC.

Description: § 205(d) Rate Filing: Bayshore Solar A, LLC Amended SFA to be effective 8/15/2017.

Filed Date: 8/14/17.

Accession Number: 20170814-5116.

Comments Due: 5 p.m. ET 9/5/17.

Docket Numbers: ER17-2301-000.

Applicants: Bayshore Solar B, LLC.

Description: § 205(d) Rate Filing: Bayshore Solar B, LLC Amended SFA to be effective 8/15/2017.

Filed Date: 8/14/17.

Accession Number: 20170814-5117.

Comments Due: 5 p.m. ET 9/5/17.

Docket Numbers: ER17-2302-000.

Applicants: Bayshore Solar C, LLC.

Description: § 205(d) Rate Filing: Bayshore Solar C, LLC Amended SFA to be effective 8/15/2017.

Filed Date: 8/14/17.

Accession Number: 20170814-5118.

Comments Due: 5 p.m. ET 9/5/17.

Docket Numbers: ER17-2303-000.

Applicants: Elevation Solar C LLC.

Description: § 205(d) Rate Filing: Elevation Solar C LLC Amended SFA to be effective 8/15/2017.

Filed Date: 8/14/17.

Accession Number: 20170814-5120.

Comments Due: 5 p.m. ET 9/5/17.

Docket Numbers: ER17-2304-000.

Applicants: Solverde 1, LLC.

Description: § 205(d) Rate Filing: Solverde 1, LLC Amended SFA to be effective 8/15/2017.

Filed Date: 8/14/17.

Accession Number: 20170814-5121.

Comments Due: 5 p.m. ET 9/5/17.

Docket Numbers: ER17-2305-000.

Applicants: Western Antelope Blue Sky Ranch B LLC.

Description: § 205(d) Rate Filing: Western Antelope Blue Sky Ranch B LLC Amended SFA to be effective 8/15/2017.

Filed Date: 8/14/17.

Accession Number: 20170814-5122.

Comments Due: 5 p.m. ET 9/5/17.

Docket Numbers: ER17-2306-000.

Applicants: Southwest Power Pool, Inc.

Description: § 205(d) Rate Filing: 3346 East River Electric/Northern States Power/MISO Int Agr to be effective 11/1/2017.

Filed Date: 8/14/17.

Accession Number: 20170814-5123.

Comments Due: 5 p.m. ET 9/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 14, 2017.
Kimberly D. Bose,
Secretary.

[FR Doc. 2017-17459 Filed 8-17-17; 8:45 am]

BILLING CODE 6717-01-P